DEPARTMENT OF COMMERCE

National Institute of Standards and Technology

Advisory Committee on Earthquake Hazards Reduction Meeting

AGENCY: National Institute of Standards and Technology, Commerce.

ACTION: Notice of open meeting.

SUMMARY: The National Earthquake Hazards Reduction Program (NEHRP) Advisory Committee on Earthquake Hazards Reduction (ACEHR), will meet at the National Institute of Standards and Technology (NIST) on Thursday, May 10, 2007 from 9:30 a.m. to 5:45 p.m. and Friday, May 11, 2007, from 8:30 a.m. to 12 p.m. The primary purpose of this meeting is to discuss NEHRP program activities. The NEHRP Advisory Committee will also discuss its annual report to the NIST Director. The agenda may change to accommodate Committee business. The final agenda will be posted on the NEHRP Web site at http://nehrp.gov/.

DATES: The meeting will convene on May 10, 2007, at 9:30 a.m. and will adjourn at 5:45 p.m. on May 10, 2007. The meeting will resume on May 11, 2007 at 8:30 a.m. and end at 12 p.m. The meeting will be open to the public.

ADDRESSES: The meeting will be held in the Employee Lounge, in the Administration Building at NIST, Gaithersburg, Maryland. Please note admittance instructions under the SUPPLEMENTARY INFORMATION section of this notice.

FOR FURTHER INFORMATION CONTACT: Dr. Jack Hayes, National Earthquake Hazards Reduction Program Director, National Institute of Standards and Technology, 100 Bureau Drive, Mail Stop 8600, Gaithersburg, Maryland 20899-8600. Dr. Hayes' e-mail address is jack.hayes@nist.gov and his phone number is (301) 975-5640.

SUPPLEMENTARY INFORMATION: The Committee was established in accordance with the requirements of Section 103 of the NEHRP Reauthorization Act of 2004 (Pub. L. 108-360). The Committee is composed of 15 members appointed by the Director of NIST who were selected for their technical expertise and experience, established records of distinguished professional service, and their knowledge of issues affecting the National Earthquake Hazards Reduction Program. In addition, the Chairperson of the United States Geological Survey (USGS) Scientific Earthquake Studies Advisory Committee (SESAC) will serve in an ex officio capacity on the Committee. The Committee will assess:

• Trends and developments in the science and engineering of earthquake hazards reduction;

• The effectiveness of NEHRP in performing its statutory activities (improved design and construction methods and practices; land use controls and redevelopment; prediction techniques and early-warning systems; coordinated emergency preparedness plans; and public education and involvement programs);

• Any need to revise NEHRP; and

• The management, coordination, implementation, and activities of NEHRP.

Background information on NEHRP and the Advisory Committee is available at http://nehrp.gov/.

Pursuant to the Federal Advisory Committee Act, 5 U.S.C. app. 2, notice is hereby given that the National Earthquake Hazards Reduction Program (NEHRP) Advisory Committee on Earthquake Hazards Reduction (ACEHR), will meet Thursday, May 10, 2007, at 9:30 a.m. and will adjourn at 5:45 p.m. on May 10, 2007. The meeting will resume on Friday, May 11, 2007 at 8:30 a.m. and end at 12 p.m. The meeting will be held at NIST headquarters in Gaithersburg, Maryland.

The primary purpose of this meeting is to discuss NEHRP program activities. The NEHRP Advisory Committee will also discuss its annual report to the NIST Director. The meeting will be open to the public. The final agenda will be posted on the NIST Web site at http://nehrp.gov/.

Individuals and representatives of organizations who would like to offer comments and suggestions related to the Committee's affairs are invited to request a place on the agenda. On May 10, 2007, approximately one-half hour will be reserved for public comments, and speaking times will be assigned on a first-come, first-serve basis. The amount of time per speaker will be determined by the number of requests received, but is likely to be about 3 minutes each. Questions from the public will not be considered during this period. Speakers who wish to expand upon their oral statements, those who had wished to speak but could not be accommodated on the agenda, and those who were unable to attend in person are invited to submit written statements to the NEHRP Advisory Committee, National Institute of Standards and Technology, 100 Bureau Drive, MS 8610, Gaithersburg, Maryland 20899-8610, via fax at (301) 975-4032, or electronically by e-mail to info@nehrp.gov.

All visitors to the NIST site are required to pre-register to be admitted. Anyone wishing to attend this meeting must register by close of business Thursday, May 3, 2007, in order to attend. Please submit your name, time of arrival, e-mail address and phone number to Amber Stillrich and she will provide you with instructions for admittance. Non-U.S. citizens must also submit their country of citizenship, title, employer/sponsor, and address. Ms. Stillrich's e-mail address is amber.stillrich@nist.gov and her phone number is (301) 975-3777.

Dated: April 4, 2007.
William Jeffrey,
Director.

[FR Doc. E7-6746 Filed 4-9-07; 8:45 am]

BILLING CODE 3510-13-P